DEPARTMENT OF HOUSING AND URBAN DEVELOPMENT

24 CFR Part 1000

[Docket No. FR-5650-N-02]

Native American Housing Assistance and Self-Determination Reauthorization Act of 1996: Request for Nominations for Negotiated Rulemaking Committee Membership

AGENCY: Office of Assistant Secretary for Public and Indian Housing, HUD.

ACTION: Notice of negotiated rulemaking.

SUMMARY: On July 3, 2012, HUD published a Federal Register notice announcing its intent to initiate negotiated rulemaking for the purpose of developing regulatory changes to the funding formula for the Indian Housing Block Grant program authorized by the Native American Housing Assistance and Self-Determination Act of 1996. This document explains how persons may be nominated to serve as members on the negotiated rulemaking committee.

DATES: Nominations for committee membership are due on or before: November 19, 2012.

ADDRESSES: Interested persons are invited to submit nominations for membership on the negotiated rulemaking committee. There are two methods for nominations to be included in the docket for this rule. All submissions must refer to the above docket number and title.

1. Submission of Nominations by Mail. Nominations may be submitted by mail to the Regulations Division, Office of the General Counsel, Department of Housing and Urban Development, 451 7th Street SW, Room 10276, Washington, DC 20410-0500.

2. Electronic Submission of Nominations. Interested persons may submit nominations electronically through the Federal eRulemaking Portal at www.regulations.gov. HUD strongly encourages the electronic submission of nominations. Electronic submission allows interested persons the maximum time to prepare and submit a nomination, ensures timely receipt by HUD, and enables HUD to immediately make nominations available to the public. Nominations submitted electronically through the www.regulations.gov Web site can be viewed by interested members of the public. Individuals should follow the instructions provided on that site to submit nominations electronically.

Note: To receive consideration, nominations must be submitted through one of the two methods specified above. All submissions must refer to the docket number and title of the rule.

No Facsimile Nominations. Facsimile (FAX) nominations are not acceptable.

Public Inspection of Nominations. All properly submitted nominations and communications submitted to HUD will be available for public inspection and copying between 8 a.m. and 5 p.m. weekdays at the above address. Due to security measures at the HUD Headquarters building, an advance appointment to review the submissions must be scheduled by calling the Regulations Division at 202-708-3055 (this is not a toll-free number). Individuals with speech or hearing impairments may access this number via TTY by calling the Federal Information Relay Service at 800-877-8339. Copies of all submissions are available for inspection and downloading at www.regulations.gov.

FOR FURTHER INFORMATION CONTACT: Rodger J. Boyd, Deputy Assistant Secretary for Native American Programs, Office of Public and Indian Housing, Department of Housing and Urban Development, 451 7th Street SW., Room 4126, Washington, DC 20410-5000, telephone number, 202-401-7914 (this is not a toll-free number). Persons with hearing or speech impediments may access this number through TTY by calling the toll-free Federal Information Relay Service at 800-877-8339 (this is a toll-free number).

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) program. The regulations governing the IHBG formula allocation are codified in subpart D of part 1000 of HUD's regulations in title 24 of the Code of Federal Regulations. In accordance with section 106 of NAHASDA, HUD developed the regulations with active tribal participation using the procedures of the Negotiated Rulemaking Act of 1990 (5 U.S.C. 561-570).

Under the IHBG program, HUD makes assistance available to eligible Indian tribes for affordable housing activities. The amount of assistance made available to each Indian tribe is determined using a formula that was developed as part of the NAHASDA negotiated rulemaking process. Based on the amount of funding appropriated for the IHBG program, HUD calculates the annual grant for each Indian tribe and provides this information to the Indian tribes. An Indian Housing Plan for the Indian tribe is then submitted to HUD. If the Indian Housing Plan is found to be in compliance with statutory and regulatory requirements, the grant is made.

On July 3, 2012 (77 FR 39452), HUD published a document in the Federal Register announcing its intent to initiate negotiated rulemaking required by Section 106 of NAHASDA and program regulations found at 24 CFR 1000.306. The July 3, 2012, Federal Register document provides additional information on the negotiated rulemaking process.

II. This Document

This document is the next step in the process of establishing the negotiated rulemaking committee to review the IHBG funding formula. Specifically, the document solicits nominations for membership on the negotiated rulemaking committee and explains how persons may be nominated for committee membership. The committee will consist of representatives of the various interests that are potentially affected by the rulemaking. Members may include tribally designated housing entities, elected officials of tribal governments, and HUD representatives. Members will serve at HUD's discretion.

The Negotiated Rulemaking Act of 1990 (5 U.S.C. 561-570) provides, at 5 U.S.C. 565(b), that the membership of a negotiated rulemaking committee should generally be limited to 25 members. It is not required that each potentially affected organization or entity have its own representative. HUD must be satisfied, however, that the group as a whole reflects a geographically diverse cross-section of small, medium, and large Indian tribes.

III. Requests for Representation

If you are interested in serving as a member of the committee or in nominating another person to serve as a member of the committee, you may submit a nomination to HUD in accordance with the ADDRESSES section of this notice. Your nomination for membership on the Committee must include:

1. The name of your nominee and a description of the interests the nominee would represent;

2. Evidence that your nominee is authorized to represent a tribal government, which may include a tribally designed housing entity of a tribe with the interests the nominee would represent, so long as the tribe provides evidence that it authorizes such representation; and

3. A written commitment that the nominee will actively participate in good faith in the development of the rule.

HUD will determine whether a proposed member will serve on the committee. HUD will make its decision based on whether a proposed member would be significantly affected by the proposed rule, whether the interest of the proposed member could be represented adequately by other members, and whether space permits.

IV. Additional Notice

In accordance with section 564 of the Negotiated Rulemaking Act of 1990, prior to the establishment of the negotiated rulemaking committee, HUD will publish a document in the Federal Register that will announce the proposed membership of the committee, solicit additional nominations for membership, and provide additional information required by the Negotiated Rulemaking Act.

Dated: September 10, 2012.
Sandra B. Henriquez,
Assistant Secretary for Public and Indian Housing.

[FR Doc. 2012-22986 Filed 9-17-12; 8:45 am]

BILLING CODE 4210-67-P